FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Selected Balance Sheet Items for Discount Window Borrowers (FR 2046; OMB No. 7100-0289).

DATES: The information collection revisions are effective October 29, 2025.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 2046.

Final Approval Under OMB Delegated Authority of the Extension for Three Years, With Revision, of the Following Information Collection

Collection title: Selected Balance Sheet Items for Discount Window Borrowers.

Collection identifier: FR 2046.

OMB control number: 7100-0289.

General description of collection: The Board's Regulation A—Extensions of Credit by Federal Reserve Banks (12 CFR part 201) states that a Reserve Bank shall require any information it believes appropriate or desirable to ensure that each discount window borrower uses the credit provided in a manner consistent with Regulation A. Regulation A also requires that each Reserve Bank shall keep itself informed of the general character and amount of loans and investments of a depository institution. Balance sheet data are collected on the FR 2046 report from certain institutions that borrow from the discount window in order to monitor discount window borrowing.

Frequency: Weekly.

Respondents: Depository Institutions.

Total estimated number of respondents: 27.

Total estimated change in burden: 0.

Total estimated annual burden hours: 143.

Current actions: On March 27, 2025, the Board published a notice in the Federal Register (90 FR 13861) requesting public comment for 60 days on the extension, with revision, of the FR 2046. The Board proposed to remove the FR 2046 reporting exemption for seasonal credit borrowers. The comment period for this notice expired on May 27, 2025. The Board did not receive any comments. The revisions will be implemented as proposed.

Board of Governors of the Federal Reserve System, September 25, 2025.
Erin M. Cayce,
Assistant Secretary of the Board.

[FR Doc. 2025-18874 Filed 9-26-25; 8:45 am]

BILLING CODE 6210-01-P